DEPARTMENT OF TRANSPORTATION

Federal Aviation Administration

14 CFR Part 21

Proposed New Restricted Category Special Purpose Operations

AGENCY: Federal Aviation Administration (FAA), DOT.

ACTION: Proposed policy statement.

SUMMARY: This notice announces the availability of and request comments on the proposed inclusion of three new restricted category special purpose operations under Title 14 of the Code of Federal Regulations (14 CFR) 21.25(b)(7).

DATES: Comments must be received on or before September 8, 2009.

ADDRESSES: Send all comments on the proposed new restricted categories to: Federal Aviation Administration, Aircraft Certification Service, Aircraft Engineering Division, Certification Procedures Branch, AIR-110, 950 L'Enfant Plaza, SW., Fifth Floor, Washington, DC 20024. ATTN.: Mr. Graham Long, Section Manager. You may hand deliver comments to: Federal Aviation Administration, 950 L'Enfant Plaza, SW., Fifth Floor, Washington, DC 20024.

FOR FURTHER INFORMATION CONTACT: Federal Aviation Administration, Aircraft Engineering Division, Aircraft Certification Service, Certification Procedures Branch (AIR 110), 950 L'Enfant Plaza, SW., Fifth Floor, Washington, DC 20024. ATTN.: Mr. Graham Long, Section Manager. Telephone: (202) 385-6319; fax: (202) 385-6475; or by e-mail: 9-AWA-AVS-AIR-110-GNL2@faa.gov.

SUPPLEMENTARY INFORMATION:

Comments Invited

Interested persons are invited to comment on the proposed new restricted categories for special purpose operations by submitting such written data, views, or arguments, as they desire to the above address. Comments received on the proposed new restricted categories may be examined, before and after the comment closing date, at 950 L'Enfant Plaza, SW., Fifth Floor, Washington, DC 20024, weekdays except Federal holidays, between 8:30 a.m. and 4:30 p.m. The Director of the Aircraft Certification Service will consider all communications received on or before the closing date before issuing the final decision.

Background

We are considering three new restricted category special purpose operations under 14 CFR 21.25(b)(7). Approval of these new special purpose operations would improve the usability of restricted category aircraft in support of the public welfare and aviation safety. The three proposed special purpose operations are (a) Alaskan Fuel Hauling, (b) Upset Recovery Training, and (c) Flying Qualities Demonstrator.

(a) Alaskan Fuel Hauling would provide a means to transport fuel to isolated individuals or locations, such as villages, towns and mining operations, within the State of Alaska. Currently, in rural Alaska there are numerous remote villages, mining camps, and individuals that have no practical access except by air. During the winter months, transportation of fuel to remote locations is limited to small quantities hauled by ground on trail access vehicles or by aircraft owners carrying fuel for their own use. During the summer, where stream access is available, there is the option of hauling limited quantities of fuel by small boats. The allowance for transportation of flammable liquids, by aircraft, when other means of transportation are impractical is specified in Title 49 of the Code of Federal Regulations (49 CFR) 175.310.

(b) Upset Recovery Training would provide an avenue for the use of aircraft with modified flight controls to be used to train air carrier pilots in upset recoveries. Airborne simulation can provide aircraft dynamic responses that simulate larger, heavier transport aircraft, and result in improved safety through more-realistic upset recovery training for air carrier pilots. The use of large transport aircraft for Upset Recovery Training is costly, and would increase the risk level of training. It is also impractical to certificate these modified aircraft in compliance with the requirements of their standard category type certificate.

(c) Flight control system design and development can be more-effectively carried out using airborne simulation. The optimizations of flight control and feel characteristics can be conducted in a real-world environment at an early stage in the design and development of the aircraft. Flying qualities of unique and novel aircraft can be evaluated, and the effects of aircraft configuration changes may be observed and measured. A Flying Qualities Demonstrator would enable the use of aircraft with modified flight controls to be used in the demonstration and development of flying qualities and flight controls. It is impractical to certificate these modified aircraft in compliance with the requirements of their standard category type certificate. Approval of these flight operations will be in compliance with the restricted category operating limitations specified in 14 CFR 91.313.

How To Obtain Copies:

You may get a copy of our proposal from the Internet at: http://www.faa.gov/aircraft/draft_docs/.

You may also request a copy from Mr. Graham Long. See the section entitled FOR FURTHER INFORMATION CONTACT for the complete address.

Issued in Washington, DC, on July 24, 2009.
Susan J. M. Cabler,
Assistant Manager, Aircraft Engineering Division, Aircraft Certification Service.

[FR Doc. E9-18573 Filed 8-5-09; 8:45 am]

BILLING CODE 4910-13-P